DEPARTMENT OF TRANSPORTATION

Federal Highway Administration

Notice of Final Federal Agency Action on a Proposed Highway Project in Wisconsin

AGENCY: Federal Highway Administration (FHWA), Department of Transportation (DOT).

ACTION: Notice of limitation on claims for judicial review of actions.

SUMMARY: The FHWA is issuing this notice to announce actions taken that are final Federal agency actions. The final agency actions relate to a proposed highway project, along United States Highway (US) 51 in Dane County, Wisconsin between Interstate 39/90 east of the city of Stoughton and US 12/18 in the city of Madison. Those actions grant approvals for the project.

DATES: By this notice, the FHWA is advising the public of final agency actions subject to 23 U.S.C. 139(l)(1). A claim seeking judicial review of the Federal agency actions on the highway project will be barred unless the claim is filed on or before January 24, 2022. If the Federal law that authorizes judicial review of a claim provides a time period of less than 150 days for filing such a claim, then that shorter time period still applies.

FOR FURTHER INFORMATION CONTACT: For FHWA, Bethaney Bacher-Gresock, Environmental Program and Project Specialist, FHWA Wisconsin Division Office, City Center West, 525 Junction Road, Suite 8000, Madison, WI 53717; email bethaney.bacher-gresock@dot.gov; telephone: (608) 662-2119. For Wisconsin Department of Transportation (WisDOT), Jeff Berens, WisDOT Project Manager, WisDOT SW-Region, Madison Office, 2101 Wright Street, Madison WI, 53704; email jeff.berens@dot.wi.gov; telephone: (608) 245-2656.

SUPPLEMENTARY INFORMATION: The FHWA, in cooperation with the WisDOT, proposes roadway improvements to US 51 on existing alignment in Dane County, Wisconsin between Interstate 39/90, east of the city of Stoughton, and US 12/18 in Madison.

The proposed improvement would include:

1. Reconstruction of 2-lane US 51 east of Stoughton.

2. Reconstruction of US 51 through Stoughton.

3. Urban 4-lane reconstruction and capacity expansion along the west side of Stoughton.

4. Reconstruction of rural 2-lane US 51 (Stoughton to McFarland) with intersection improvements.

5. Urban 4-lane reconstruction in McFarland.

6. Pavement replacement between Larson Beach Road and Terminal Drive/Voges Road in McFarland.

The actions by the Federal agencies, and the laws under which such actions were taken, are described in the Environmental Assessment (EA)/Finding of No Significant Impact (FONSI) for the project, approved on August 17, 2021 and in other documents in the FHWA project records. The EA, FONSI and other project records are available by contacting WisDOT or FHWA at the addresses provided in the “For Further Information Contact” section of this notice. The EA/FONSI may be viewed and downloaded from the project website at https://wisconsindot.gov/Pages/projects/by-region/sw/5139901218/reports.aspx.

This notice applies to all Federal agency decisions as of the issuance date of this notice and all laws under which such actions were taken, including but not limited to:

1. National Environmental Policy Act (NEPA) [42 U.S.C. 4321-4351]; Federal-Aid Highway Act [23 U.S.C. 109 and 23 U.S.C. 128].

2. Section 7 of the Endangered Species Act of 1973 (ESA) [16 U.S.C. 1531-1544 and Section 1536].

3. National Historic Preservation Act of 1966, as amended (16 U.S.C. 470(f) et seq.)

4. Clean Air Act [42 U.S.C. 7401-7671 (q)].

5. Clean Water Act [Section 404, Section 401, Section 319].

6. Section 4(f) of the Department of Transportation Act of 1966 [49 U.S.C. 303].

7. Uniform Relocation Assistance and Real Property Acquisition Act of 1970, as amended.

8. Migratory Bird Treaty Act (MBTA) of 1918, as amended.

(Catalog of Federal Domestic Assistance Program Number 20.205, Highway Planning and Construction. The regulations implementing Executive Order 12372 regarding intergovernmental consultation on Federal programs and activities apply to this program.)

Authority: 23 U.S.C. 139(l)(1).

Issued on: August 24, 2021.
Glenn Fulkerson,
Division Administrator, Federal Highway Administration, Madison, Wisconsin.

[FR Doc. 2021-18522 Filed 8-26-21; 8:45 am]

BILLING CODE 4910-RY-P